DEPARTMENT OF ENERGY

Federal Energy Regulatory Commission

[Project No. P-12796-004-OH]

City of Wadsworth, Ohio; Notice of Availability of Environmental Assessment

In accordance with the National Environmental Policy Act of 1969 and the Federal Energy Regulatory Commission's (Commission) regulations, 18 Code of Federal Regulations (CFR) Part 380 (Order No. 486, 52 Federal Register [FR] 47897), the Office of Energy Projects has reviewed the application for a major original license for the 50-megawatt Robert C. Byrd Hydroelectric Project, (RC Byrd Project or project), located on the Ohio River at the U.S. Army Corps of Engineers' (Corps) Robert C. Byrd Locks and Dam (RC Byrd Locks and Dam), approximately 12.7 miles south of the confluence of the Ohio River and the Kanawha River, 9 miles south of the Town of Gallipolis, Gallia County, Ohio, and has prepared a Draft Environmental Assessment (DEA) for the project. The proposed project would occupy 7.6 acres of federal land administered by the Corps.

The DEA contains the staff's analysis of the potential environmental impacts of the proposed project and concludes that licensing the proposed project, with appropriate environmental protective measures, would not constitute a major federal action that would significantly affect the quality of the human environment.

A copy of the DEA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Any comments should be filed within 30 days from the date of this notice.

The Commission strongly encourages electronic filings. Please file comments using the Commission's eFiling system at http://www.ferc.gov/docs-filing/efiling.asp. Commenters can submit brief comments up to 6,000 characters, without prior registration, using the eComment system at http://www.ferc.gov/docs-filing/ecomment.asp.

You must include your name and contact information at the end of your comments. For assistance, please contact FERC Online Support. In lieu of electronic filing, please send a paper copy to: Secretary, Federal Energy Regulatory Commission, 888 First Street NE., Washington, DC 20426. Please affix “Project No. 12796-004” to all comments.

For further information, contact Gaylord Hoisington by telephone at 202-502-6032 or by email at gaylord.hoisington@ferc.gov.

Dated: July 8, 2014.
Kimberly D. Bose,
Secretary.

[FR Doc. 2014-16442 Filed 7-14-14; 8:45 am]

BILLING CODE 6717-01-P